DEPARTMENT OF COMMERCE

National Institute of Standards and Technology

National Fire Protection Association (NFPA): Request for Comments on NFPA's Codes and Standards

AGENCY: National Institute of Standards and Technology, Commerce.

ACTION: Notice.

SUMMARY: Since 1896, the National Fire Protection Association (NFPA) has accomplished its mission by advocating scientifically based consensus codes and standards, research, and education for safety related issues. NFPA's National Fire Codes®, which holds over 270 documents, are administered by more than 225 Technical Committees comprised of approximately 7,000 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that takes approximately two years to complete. Each Revision Cycle proceeds according to a published schedule that includes final dates for all major events in the process. The process contains five basic steps that are followed both for developing new documents as well as revising existing documents. These steps are: Calling for Proposals; Publishing the Proposals in the Report on Proposals; Calling for Comments on the Committee's disposition of the Proposals and these Comments are published in the Report on Comments; having a Technical Report Session at the NFPA Annual Meeting; and finally, the Standards Council Consideration and Issuance of documents.

Note: Under new rules effective this Fall 2005, anyone wishing to make Amending Motions on the Technical Committee Reports (ROP and ROC) must signal their intention by submitting a Notice of Intent to Make a Motion by the Deadline of October 20, 2006. Certified motions will be posted by November 17, 2006. Documents that receive notice of proper Amending Motions (Certified Amending Motions) will be presented for action at the annual June 2007 Association Technical Meeting. Documents that receive no motions will be forwarded directly to the Standards Council for action on issuance.

For more information on these new rules and for up-to-date information on schedules and deadlines for processing NFPA Documents, check the NFPA Web site at www.nfpa.org or contact NFPA Codes and Standards Administration.

The purpose of this notice is to request comments on the technical reports that will be published in the NFPA's 2006 Fall Revision Cycle. The publication of this notice by the National Institute of Standards and Technology (NIST) on behalf of NFPA is being undertaken as a public service; NIST does not necessarily endorse, approve, or recommend any of the standards referenced in the notice.

DATES: Thirty-six reports are published in the 2006 Fall Revision Cycle Report on Proposals and will be available on December 23, 2005. Comments received on or before March 3, 2006, will be considered by the respective NFPA Committees before final action is taken on the proposals.

ADDRESSES: The 2006 Fall Revision Cycle Report on Proposals is available and downloadable from NFPA's Web site— www.nfpa.org or by requesting a copy from the NFPA, Fulfillment Center, 11 Tracy Drive, Avon, Massachusetts 02322. Comments on the report should be submitted to Casey C. Grant, Secretary, Standards Council, NFPA, 1 Batterymarch Park, Quincy, Massachusetts 02269-7471.

FOR FURTHER INFORMATION CONTACT: Casey C. Grant, Secretary, Standards Council, NFPA, 1 Batterymarch Park, Quincy, Massachusetts 02269-7471, (617) 770-3000.

SUPPLEMENTARY INFORMATION:

Background

The National Fire Protection Association (NFPA) develops building, fire, and electrical safety codes and standards. Federal agencies frequently use these codes and standards as the basis for developing Federal regulations concerning safety. Often, the Office of the Federal Register approves the incorporation by reference of these standards under 5 U.S.C. 552(a) and 1 CFR Part 51.

Request for Comments

Interested persons may participate in these revisions by submitting written data, views, or arguments to Casey C. Grant, Secretary, Standards Council, NFPA, 1 Batterymarch Park, Quincy, Massachusetts 02269-7471. Commenters may use the forms provided for comments in the Reports on Proposals. Each person submitting a comment should include his or her name and address, identify the notice, and give reasons for any recommendations. Comments received on or before March 3, 2006, for the 2006 Fall Revision Cycle Report on Proposals will be considered by the NFPA before final action is taken on the proposals.

Copies of all written comments received and the disposition of those comments by the NFPA committees will be published as the 2006 Fall Revision Cycle Report on Comments by August 25, 2006. A copy of the Report on Comments will be sent automatically to each commenter.

2006 Fall Revision Cycle—Report on Proposals
[P = Partial revision; W = Withdrawal; R = Reconfirmation; N = New; C = Complete Revision]
NFPA 12 | Standard on Carbon Dioxide Extinguishing Systems | P
NFPA 12A | Standard on Halon 1301 Fire Extinguishing Systems | P
NFPA 16 | Standard for the Installation of Foam-Water Sprinkler and Foam-Water Spray Systems | P
NFPA 18A | Standard on Water Additives for Fire Control and Vapor Mitigation | N
NFPA 25 | Standard for the Inspection, Testing, and Maintenance of Water-Based Fire Protection Systems | P
NFPA 30 | Flammable and Combustible Liquids Code | P
NFPA 51 | Standard for the Design and Installation of Oxygen-Fuel Gas Systems for Welding, Cutting, and Allied Processes | P
NFPA 58 | Liquefied Petroleum Gas Code | P
NFPA 68 | Guide for Venting of Deflagrations | C
NFPA 85 | Boiler and Combustion Systems Hazards Code | P
NFPA 204 | Standard for Smoke and Heat Venting | P
NFPA 385 | Standard for Tank Vehicles for Flammable and Combustible Liquids | P
NFPA 471 | Recommended Practice for Responding to Hazardous Materials Incidents | P
NFPA 472 | Standard for Professional Competence of Responders to Hazardous Materials Incidents | C
NFPA 550 | Guide to the Fire Safety Concepts Tree | R
NFPA 551 | Guide for the Evaluation of Fire Risk Assessments | P
NFPA 560 | Standard for the Storage, Handling, and Use of Ethylene Oxide for Sterilization and Fumigation | P
NFPA 900 | Building Energy Code | P
NFPA 1005 | Standard on Professional Qualifications for Marine Fire Fighting for Land-Based Fire Fighters | N
NFPA 1037 | Standard for Professional Qualifications for Fire Marshals | N
NFPA 1041 | Standard for Fire Service Instructor Professional Qualifications | P
NFPA 1051 | Standard for Wildland Fire Fighter Professional Qualifications | P
NFPA 1061 | Standard for Professional Qualifications for Public Safety Telecommunicator | P
NFPA 1402 | Guide to Building Fire Service Training Centers | C
NFPA 1403 | Standard on Live Fire Training Evolutions | C
NFPA 1451 | Standard for a Fire Service Vehicle Operations Training Program | C
NFPA 1600 | Standard on Disaster/Emergency Management and Business Continuity Programs | C
NFPA 1851 | Standard on Selection, Care, and Maintenance of Structural Fire Fighting Protective Ensembles | C
NFPA 1911 | Standard for Service Tests of Fire Pump Systems on Fire Apparatus | C
NFPA 1914 | Standard for Testing Fire Department Aerial Devices | W
NFPA 1915 | Standard for Fire Apparatus Preventive Maintenance Program | W
NFPA 1951 | Standard on Protective Ensemble for USAR Operations | C
NFPA 1961 | Standard on Fire Hose | P
NFPA 1981 | Standard on Open-Circuit Self-Contained Breathing Apparatus for Fire and Emergency Services | C
NFPA 1982 | Standard on Personal Alert Safety Systems (PASS) | C
NFPA 2001 | Standard on Clean Agent Fire Extinguishing Systems | P

Dated: November 8, 2005.
William Jeffrey,
Director.

[FR Doc. 05-22785 Filed 11-16-05; 8:45 am]

BILLING CODE 3510-13-P